DEPARTMENT OF THE INTERIOR

Bureau of Ocean Energy Management

[Docket No. BOEM-2025-0318]

Commercial Leasing for Outer Continental Shelf Minerals Offshore Alaska—Request for Information and Interest

AGENCY: Bureau of Ocean Energy Management, Interior.

ACTION: Request for information and interest.

SUMMARY: The Bureau of Ocean Energy Management (BOEM) is initiating the first steps that could potentially lead to a lease sale for minerals on the Outer Continental Shelf (OCS) offshore Alaska by publishing this request for information and interest (RFI). This RFI is not a final decision to lease and does not prejudge any future Secretarial decisions concerning leasing on the OCS offshore Alaska. This RFI requests information and comments on, and indications of interest in, the leasing of OCS minerals in an area offshore Alaska, referred to as the RFI Area, with details in Section 5 “Description of the RFI Area.” BOEM will consider information and interest received in response to this RFI when considering whether to proceed with additional steps leading to the offer of OCS minerals for lease offshore Alaska. Those interested in providing comments or information should provide the information requested in Section 6 “Types of Information and Comments Requested,” of this RFI. Those interested in leasing in and around the RFI Area for OCS mineral development should provide the information described in Section 7 “Requested Information for Indications of Interest.” BOEM will decide whether and under what terms and conditions to hold a lease sale for commercial OCS mineral development offshore Alaska after further consideration, consultations, public participation, and environmental analyses.

DATES: BOEM must receive all comments, information, and indications of interest in response to this RFI no later than March 2, 2026.

ADDRESSES: Please submit indications of interest in commercial leasing electronically via email to AlaskaLeaseSales@boem.gov or by hard copy by mail to the following address: Bureau of Ocean Energy Management, Alaska Region, Office of Leasing and Plans, 3801 Centerpoint Dr., Ste. 500, Anchorage, Alaska 99503. If you elect to mail a hard copy, also include an electronic copy on a portable storage device. These are the only acceptable means of submitting indication of interest in commercial leasing under this RFI to BOEM.

Please submit all other comments and information as discussed in section 6, entitled, “Types of Information and Comments Requested,” by either of the following two methods:

1. Federal eRulemaking Portal: http://www.regulations.gov. In the search box at the top of the web page, enter BOEM-2025-0318 and then click “search.” Follow the instructions to submit public comments and to view supporting and related materials.

2. By mail to the following address: Bureau of Ocean Energy Management, Alaska Region, Office of Leasing and Plans, 3801 Centerpoint Dr., Ste. 500, Anchorage, Alaska 99503.

Treatment of confidential information is addressed in Section 8 of this notice entitled, “Protection of Privileged, Personal, or Confidential Information.” BOEM will post all comments received on regulations.gov unless labeled as confidential and BOEM determines that an exemption from disclosure applies.

FOR FURTHER INFORMATION CONTACT: Aldine Reynolds, Bureau of Ocean Energy Management, Alaska Region, Office of Leasing and Plans, 3801 Centerpoint Dr., Ste. 500, Anchorage, Alaska 99503, at AlaskaLeaseSales@boem.gov or (907) 334-5200.

SUPPLEMENTARY INFORMATION: The OCS Lands Act (43 U.S.C. 1331 et seq.) declares that it is the policy of the United States that the OCS “is a vital national resource reserve held by the Federal Government for the public, which should be made available for expeditious and orderly development, subject to environmental safeguards, in a manner which is consistent with the maintenance of competition and other national needs.” Id. at 1332(3). BOEM requests information and comments from Indigenous communities, state and local governments, Federal agencies, environmental and other public interest organizations, the offshore mining industry, other interested organizations and entities, and the public, for use in the consideration of whether to offer OCS minerals for lease offshore Alaska. BOEM is seeking a wide array of information, including but not limited to information on the potential impact of OCS mineral exploration and development on OCS resources and the marine, coastal, and human environments. This RFI is published under the OCS Lands Act, 43 U.S.C. 1337(k)(1), and its implementing regulations at 30 CFR 581.12.

1. Public Comment Procedure

BOEM's strong preference is to receive comments via regulations.gov, except when a comment contains proprietary information. Comments should include the full name and address of the individual submitting the comment(s). Before including personal identifying information in your comment, be aware that your entire comment, including your personal identifying information, may be made publicly available. While you can ask BOEM in your comment to withhold your personal identifying information from public review, BOEM cannot guarantee that we will be able to do so. Even if BOEM withholds your information in the context of this RFI, your submission is subject to the Freedom of Information Act (FOIA), and if your submission is requested under the FOIA, your information will only be withheld if a determination is made that one of the FOIA's exemptions to disclosure applies. Such a determination will be made in accordance with the Department's FOIA regulations and applicable law.

2. Background Information

Section 8(k) of the OCS Lands Act (43 U.S.C. 1337(k)) authorizes the Secretary of the Interior to grant leases on the OCS to qualified persons offering the highest cash bonuses for minerals other than oil, gas, and sulfur on a competitive basis. The Trump Administration recognizes that an overreliance on foreign critical minerals and their derivative products could jeopardize U.S. defense capabilities, infrastructure development, and technological innovation. To support and facilitate domestic production of critical minerals, the Trump Administration has issued a series of Executive Orders (EOs), including E.O. 14156, “Declaring a National Energy Emergency (January 20, 2025);” E.O. 14154, “Unleashing American Energy” (January 20, 2025) and E.O. 14285, “Unleashing America's Offshore Critical Minerals and Resources” (April 24, 2025). The Secretary of the Interior also issued Secretary's Order (SO) 3417, “Addressing the National Energy Emergency” (February 3, 2025) and SO 3418, “Unleashing American Energy,” (February 3, 2025) which direct Department of the Interior (DOI) bureaus to facilitate and expedite critical mineral permitting, leasing, and ultimately development on the OCS.

In response to the EOs and SO, BOEM is taking immediate action to accelerate the responsible development of OCS mineral resources, advance American leadership in associated extraction technologies, and ensure secure supply chains for U.S. defense, infrastructure, and energy sectors with the publication of this RFI.

BOEM will advance America's national security and future prosperity through the identification of and access to OCS minerals, which include those minerals identified as critical minerals by Federal statute. Pursuant to Section 7002 of the Energy Act of 2020 (Pub. L. 116-260, Division Z), critical minerals are defined as any minerals, elements, substances, or materials that are determined to be essential to the economic and national security of the United States, have a supply chain vulnerable to disruption, and play an essential role in manufacturing a product whose absence would significantly affect U.S. economic or national security. On November 7, 2025, the Secretary of the Interior, through the U.S. Geological Survey, identified 60 critical minerals with 43 of these minerals being found on the OCS (90 FR 50494).

Upon release of this RFI, BOEM intends to evaluate lease planning with the State of Alaska, local governments, relevant OCS users, and Federal agencies including, but not limited to, the Department of the Interior's U.S. Fish and Wildlife Service, the National Park Service, the U.S. Army Corps of Engineers; the U.S. Coast Guard; the National Oceanic and Atmospheric Administration; and the Department of Defense. BOEM remains available for the formal government-to-government process with Tribes and Alaska Native Claims Settlement Act corporations. BOEM is also available for engagement with interested stakeholders and the public.

3. BOEM's Leasing Process

BOEM will follow the steps required by 30 CFR 581.14 through 581.23 if it decides to proceed with the competitive leasing process after analyzing the responses to this RFI. Briefly, those steps are:

(1) OCS Mining Area Identification: BOEM will select tracts to be considered for offering of a lease. The selected tracts will be considered in the environmental analysis conducted for the proposed lease offering.

(2) Proposed Leasing Notice (PLN): BOEM will publish a PLN in the Federal Register at least 60 days prior to the publication of a leasing notice. The PLN will describe the areas that BOEM intends to offer for leasing; proposed primary terms of the OCS mineral leases to be offered; lease stipulations including measures to mitigate potentially adverse impacts on the environment; and such rental, royalty, and other terms and conditions that BOEM may prescribe in the leasing notice.

(3) Leasing Notice (LN): If it decides to proceed to conduct a lease sale, BOEM will publish a LN in the Federal Register at least 30 days before the date of the lease sale. The LN will state whether oral or sealed bids or a combination thereof will be used; the place, date, and time at which sealed bids will be filed; and the place, date, and time at which sealed bids will be opened and/or oral bids received. The LN will contain or reference a description of the tract(s) to be offered for lease; specify the mineral(s) to be offered for lease (if less than all OCS minerals are being offered); specify the period of time the primary term of the lease will cover; and contain any stipulation(s), term(s), and condition(s) of the offer to lease. Additionally, the LN will include a reference to the OCS mineral lease form that will be issued to successful bidders and specify the terms and conditions governing the payment of the winning bid.

(4) Bid Submission and Evaluation: BOEM will offer the lease area(s) through a competitive, cash bonus bidding process under terms and conditions specified in the LN.

(5) Issuance of a Lease: Following identification of a winning qualified bidder on a lease area, BOEM will notify that bidder and provide the lease documents for signature.

4. Purpose of the RFI

The purpose of this RFI is to gather comments, information, and indications of interest from any interested parties for a potential OCS mineral lease sale offshore Alaska. This RFI is one of the initial steps in the public participation process to ensure that all interests and concerns are considered for future leasing decisions. This does not mean that DOI or BOEM has reached a preliminary decision to lease in this area. BOEM will consider information and comments received that may identify any potential environmental impacts, multiple use conflicts, and ways to eliminate, mitigate, and monitor for impacts to assist in future analysis and leasing decisions. BOEM will also determine if any responses identify specific areas of interest in the RFI Area that could support commercial mineral development, potential conflicts among offshore activities, and requirements to ensure safe and environmentally responsible activities should a lease sale occur.

5. Description of the RFI Area

The RFI Area includes these areas within the Alaska OCS: Norton Sound Heavy Mineral Sands, Goodnews Bay Heavy Mineral Sands, Aleutian Arc, Canada Basin, Chukchi Borderland and Gulf of Alaska seamounts off the coast of Alaska, covering approximately 113,703,395 acres. The RFI Area boasts a variety of water depths from the deepest point near the Aleutian Trench at over 7,000 meters, the abyssal plains of the Bering Sea and Gulf of Alaska at 3,800-5,500 meters, and the shallow sandy waters of Norton Sound at 10-25 meters. Deep water resource areas are primarily abyssal plains with scattered seamounts and hydrothermal features. Shallower areas are much sandier and are dominated by sediment transport structures such as sand bars, alluvial fans, and glacial moraines. BOEM is particularly interested in areas that have been identified by USGS as prospective for critical minerals as well as heavy minerals sands along the Seward Peninsula and Bering Sea coast. BOEM plans to refer to Official Protraction Diagrams, whole or partial OCS lease blocks, and aliquots for the purpose of area identification and tract size specification. This is consistent with previous RFIs issued related to OCS mineral lease sales and the practice used by BOEM for other OCS leasing (e.g., oil and gas, other minerals). The map depicting the approximate RFI Area (Figure 1), and an Esri shapefile are available for download on the BOEM website at https://www.boem.gov/ak-minerals-2027. BOEM Official Protraction Diagrams (OPDs) and Supplemental Official OCS Block Diagrams, are available online at https://www.boem.gov/alaska-cadastral-data. Please note that some areas within the RFI area (and Alaska OCS) do not currently have published OPDs. Additional information on Alaska minerals can be found at https://www.boem.gov/marine-minerals/critical-minerals/critical-minerals-alaska-ocs.

BILLING CODE 3411-15-P

BILLING CODE 3411-15-C

BOEM is seeking to identify locations suitable for OCS mineral development in the RFI Area. Respondents may nominate areas of interest within the RFI Area and comment on any acreage in and around the RFI Area. The RFI Area is not indicative of the area that may ultimately be offered for lease. Responses to this RFI will help determine lease tract size and block configurations for potential leasing. If BOEM proceeds with the leasing process, tract sizes will be proposed in the PLN and finalized in the LN.

6. Types of Information and Comments Requested

BOEM invites comments from anyone who would like to submit information and suggestions for consideration in determining, among other things, the appropriate size and location of potential OCS mineral leasing in and around the RFI Area. Commenters should be as specific and detailed as possible to help BOEM understand and address the comments. Where applicable, spatial information should be submitted in a format compatible with Esri ArcGIS (Esri shapefile, Esri file geodatabase, KML (Keyhole Markup Language), GeoJSON, or GeoPackage) in the WGS84 or NAD83 geographic coordinate system. BOEM is requesting information on the following:

a. Information concerning the offering of a specific OCS mineral, a group of OCS minerals, or all OCS minerals (other than oil, gas, and sulfur) in a broad area for lease in the RFI Area or the offering of one or more discrete tracts which represent a minable orebody.

b. Geological conditions, archaeological resources, or potential hazards on the seabed in and around the RFI Area.

c. Multiple uses in and around the RFI Area, including shipping, navigation, and recreation.

d. Socioeconomic, biological, and environmental information in and around the RFI Area or analogous sites for comparative analysis; potential impacts of leasing and mining activities to these resources; and methods to eliminate, mitigate, and monitor for impacts.

e. Information regarding commercial, Indigenous, and recreational fisheries, including but not limited to, the use of the areas, the fishing gear types used, seasonal use, and recommendations for reducing use conflicts.

f. Relative environmental sensitivity and marine productivity in and around the RFI Area.

g. Information on the preliminary activities necessary to develop comprehensive delineation, testing, or mining plans, particularly the types of any necessary surveys and associated equipment.

h. Information on the types of activities associated with delineation, testing, or mining of OCS minerals.

i. Information related to Indigenous Peoples, including their traditional and cultural activities in the region and interactions with potential OCS mineral exploration and extraction related work, such as potential impacts to the Indigenous way of life; practices; lands; resources; ancestral lands; sacred sites, including sites that are submerged; and access to traditional areas of cultural or religious importance on federally-managed lands and waters. BOEM will protect confidential information shared by Indigenous Peoples in response to this RFI to the extent authorized by Federal law. Treatment of confidential information is addressed in Section 8 of this notice entitled, “Protection of Privileged, Personal, or Confidential Information.”

j. Socioeconomic information for communities potentially affected by OCS mineral leasing in and around the RFI Area, including community profiles, vulnerability, and resiliency data.

k. Information from the offshore mining industry on the considerations for OCS mineral development in the offshore such as water depth, seafloor conditions, operations, mineral extraction feasibility, and costs.

l. Information on what a reasonable and fair rental rate would be for a minerals lease, including whether and why a rental payment should be required in the first five years, and if not in accordance with 30 CFR 581.27, what the rental payment should be starting in year six. Should the adjustment or suspension of rental payments be allowed under certain conditions, such as geologic, geographic, technical, or economic factors? If so, what specific conditions should apply?

m. Information on the royalty rates and schedules that would effectively serve as both an incentive for development and assure a fair return to the public for extracted minerals. BOEM could potentially issue a minerals lease with an ad valorum royalty and include provisions for a minimum royalty equivalent to the rental rate per 30 CFR 581.30. The royalty schedule may be modified from the provisions in 30 CFR 581.28(b) and is anticipated to include a lower royalty rate during the early years of the lease to help lessees recoup their capital investments.

n. Information on appropriate bid deposit, minimum bid levels, and preferred auction format (sealed bid or ascending). BOEM is evaluating the use of either a sealed bid or an ascending oral bid auction format and is considering limiting bidders to one lease area if multiple areas are offered. An ascending auction allows for more effective price discovery, while a sealed bid auction offers administrative simplicity.

o. Information on the appropriate lease size BOEM should offer for a minerals lease offshore Alaska.

p. Information on the duration and conditions BOEM should consider for potential lease contraction clauses. BOEM could offer one or more large lease areas so companies can explore for and find economic deposits of minerals. However, BOEM could also consider lease contraction clauses allowing for the reduction of the leased acreage after a specified period. BOEM is evaluating a two-stage lease contraction process, scheduled around years 7 and 14. The first contraction would reduce the acreage to the most suitable area for more detailed exploration. The second contraction would further refine the lease area to define the acreage for commercial recovery. What is the preferrable acreage for each lease contraction stage? What are the optimal years for implementing these two stages of lease contraction?

q. The regulations at 30 CFR 581.26(h) establish a framework for valuing production for royalty purposes. We invite public comment on whether there are alternative valuation methods that ONRR should consider under 30 CFR 581.26(h)(1)(iii).

7. Requested Information for Indications of Interest

Areas of interest and the accompanying rationale are extremely useful to help BOEM understand and model the commercial viability of portions of the OCS for mineral leasing. Respondents are requested to nominate specific blocks or acreage within the RFI Area that are of particular interest for consideration in a possible OCS mineral lease sale. Nominations must be depicted on a map with the RFI Area by outlining the area(s) of interest. Where applicable, interested companies should submit spatial information in a format compatible with Esri ArcGIS (Esri shapefile, Esri file geodatabase, KML (Keyhole Markup Language), GeoJSON, or GeoPackage) in the WGS84 or NAD83 geographic coordinate system.

If you wish to indicate interest for one or more areas for a commercial OCS mineral lease in the RFI Area, you should provide the following information for each area of interest:

(a) The area to be offered for lease.

(b) The OCS minerals of primary interest.

(c) The available OCS mineral resource, geological, archaeological resources, and environmental information (including methods to eliminate, mitigate, and monitor for potential impacts) pertaining to the area of interest to be offered for lease which supports the request.

Although the identities of those indicating interest in specific areas in response to this RFI become a matter of public record, their indications of interest in specific areas are considered proprietary information. BOEM will not release information that identifies any particular area of interest or nomination with any particular party, so as not to compromise the competitive position of any participants. Respondents may rank areas of specific interest according to priority: 1 (high), 2 (medium), and 3 (low). The name and telephone number of a person in the respondent's organization to contact for additional information or clarification should be included in the response.

Please submit indications of interest in commercial leasing electronically via email to AlaskaLeaseSales@boem.gov or by hard copy by mail to the following address: Bureau of Ocean Energy Management, Alaska Region, Office of Leasing and Plans, 3801 Centerpoint Dr. Ste 500, Anchorage, Alaska 99503. If you elect to mail a hard copy, also include an electronic copy on a portable storage device. Do not submit indications of interest via the Federal eRulemaking Portal.

8. Protection of Privileged, Personal, or Confidential Information

a. Freedom of Information Act

BOEM will protect privileged or confidential information that you submit when required by the FOIA. Exemption 4 of FOIA applies to trade secrets and commercial or financial information that is privileged or confidential. If you wish to protect the confidentiality of such information, clearly label it and request that BOEM treat it as confidential. BOEM will not disclose such information if BOEM determines under FOIA, and the Department and BOEM regulations (see 30 CFR 581.7) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this RFI, your submission is subject to FOIA and, if your submission is requested under FOIA, your information will be withheld only if a determination is made that one of FOIA's exemptions to disclosure applies.Such a determination will be made in accordance with the Department's FOIA regulations and applicable law.

c. Section 304 of the National Historic Preservation Act (NHPA) (54 U.S.C. 307103(a))

After consultation with the Secretary, BOEM is required to withhold the location, character, or ownership of historic resources if it determines that disclosure may, among other things, risk harm to the historic resources or impede the use of a traditional religious site by practitioners. Indigenous Peoples, communities, and organizations should designate information that falls under Section 304 of the NHPA as confidential.

Matthew N. Giacona,
Acting Director, Bureau of Ocean Energy Management.

[FR Doc. 2026-01808 Filed 1-28-26; 8:45 am]

BILLING CODE 4340-98-P